DEPARTMENT OF HOMELAND SECURITY

Coast Guard

33 CFR Part 117

[Docket Number USCG-2011-0243]

RIN 1625-AA09

Drawbridge Operation Regulation; Illinois Waterway, Joliet, IL

AGENCY: Coast Guard, DHS.

ACTION: Notice of temporary deviation from regulations.

SUMMARY: The Commander, Eighth Coast Guard District, has issued a temporary deviation from the regulation governing the operation of the Cass Street Drawbridge across the Illinois Waterway, mile 288.1, at Joliet, Illinois. The deviation is necessary to allow participants in an 8K run to cross the bridge. This deviation allows the bridge to be maintained in the closed-to-navigation position for three hours.

DATES: This deviation is effective from 8:30 a.m. to 11:30 a.m. on May 14, 2011.

ADDRESSES: Documents mentioned in this preamble as being available in the docket are part of docket USCG-2011-0243 and are available online by going to http://www.regulations.gov, inserting USCG-2011-0243 in the “Keyword” box and then clicking “Search”. They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Eric A. Washburn, Bridge Administrator, Coast Guard; telephone (314) 269-2378, e-mail Eric.Washburn@uscg.mil. If you have questions on viewing the docket, call Renee V. Wright, Program Manager, Docket Operations, telephone (202) 366-9826.

SUPPLEMENTARY INFORMATION: The Illinois Department of Transportation requested a temporary deviation for the Cass Street Drawbridge, across the Illinois Waterway, mile 288.1, at Joliet, Illinois to remain in the closed-to-navigation position for three hours while an 8K run is held in the city of Joliet, IL. The Cass Street Drawbridge currently operates in accordance with 33 CFR 117.393(c), which states the general requirement that drawbridges shall open promptly and fully for the passage of vessels when a request to open is given in accordance with the subpart, except that they need not open from 7:30 a.m. to 8:30 a.m. and from 4:15 to 5:15 p.m., Monday through Saturday.

There are no alternate routes for vessels transiting this section of the Illinois Waterway.

The Cass Street Drawbridge, in the closed-to-navigation position, provides a vertical clearance of 16.6 feet above normal pool. Navigation on the waterway consists primarily of commercial tows and recreational watercraft. This temporary deviation has been coordinated with waterway users. No objections were received.

In accordance with 33 CFR 117.35(e), the drawbridge must return to its regular operating schedule immediately at the end of the designated time period. This deviation from the operating regulations is authorized under 33 CFR 117.35.

Dated: April 7, 2011.
Eric A. Washburn,
Bridge Administrator.

[FR Doc. 2011-9257 Filed 4-15-11; 8:45 am]

BILLING CODE 9110-04-P